DEPARTMENT OF ENERGY

Federal Energy Regulatory Commission

Notice of Staff Attendance at North American Electric Reliability Corporation Subcommittee and Standard Drafting Meetings

The Federal Energy Regulatory Commission hereby gives notice that members of the Commission and/or Commission staff may attend the following meetings:

North American Electric Reliability Corporation: Organization Registration and Certification Subcommittee Meeting: Hybrid

Southwest Power Pool Offices, 201 Worthen Drive, Little Rock, AR 72223

Attendees may also attend the meeting through WebEx.

May 1, 2024 | 8:00 a.m.-10 a.m. Central

Further information regarding this meeting may be found at: https://www.nerc.com/comm/CCC/Organization%20Registration%20and%20Certification%20Sub1/Organization%20Registration%20and%20Certification%20Subcommittee%20(ORCS)%20Meeting%20Agenda%20Package%20-%20May%201,%202024.pdf.

North American Electric Reliability Corporation: Project 2021-04 Modifications to PRC-002—Phase II Standard Drafting Team Meeting, WebEx

May 6, 2024 | 1:00 p.m.-3:00 p.m. Eastern

Further information regarding these meetings and how to join remotely may be found at: http://www.nerc.com/Pages/Calendar.aspx.

The discussions at the meetings, which are open to the public, may address matters at issue in the following Commission proceedings:

Docket No. RR24-2-000 North American Electric Reliability Corporation

For further information, please contact Leigh Anne Faugust (202) 502-6396 or leigh.faugust@ferc.gov.

Dated: April 29, 2024.
Debbie-Anne A. Reese,
Acting Secretary.

[FR Doc. 2024-09682 Filed 5-2-24; 8:45 am]

BILLING CODE 6717-01-P